DEPARTMENT OF THE INTERIOR

National Park Service

[NPS-WASO-NAGPRA-NPS0024430; PPWOCRADN0-PCU00RP14.R50000]

Notice of Inventory Completion: Arkansas Archeological Survey, Fayetteville, AR

AGENCY: National Park Service, Interior.

ACTION: Notice.

SUMMARY: The Arkansas Archeological Survey has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Arkansas Archeological Survey. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Arkansas Archeological Survey at the address in this notice by March 1, 2018.

ADDRESSES: Dr. George Sabo, Director, Arkansas Archeological Survey, 2475 North Hatch Avenue, Fayetteville, AR 72704, (479) 575-3556, gsabo@uark.edu.

SUPPLEMENTARY INFORMATION: Notice is here given in accordance with the Native American Graves Protection and Repatriation Act (NAGPRA), 25 U.S.C. 3003, of the completion of an inventory of human remains and associated funerary objects under the control of the Arkansas Archeological Survey, Fayetteville, AR. The human remains and associated funerary objects were removed from multiple locations in the State of Arkansas.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Arkansas Archeological Survey professional staff in consultation with representatives of The Quapaw Tribe of Indians, Oklahoma. The human remains were inventoried and documented by Physical Anthropologists at the University of Arkansas.

History and Description of the Remains

In 2017, human remains representing, at minimum, one individual were recovered on the bank of the Arkansas River in Southeast Arkansas. These human remains were determined to be of Native American descent and were transferred to the Arkansas Archeological Survey. No known individual was identified. No associated funerary objects were present. Diagnostic artifacts found along the Arkansas River indicate that these human remains were probably buried sometime during the Prehistoric Period (11,650 B.C.-A.D. 1541).

In 1999, human remains representing, at minimum, four individuals were recovered during a salvage excavation from site 3CY455 in Clay County, AR. No known individuals were identified. No associated funerary objects were present. Diagnostic artifacts found at site 3CY455 indicate that these human remains were probably buried sometime during the Prehistoric Period (11,650 B.C.-A.D. 1541).

In 2008, human remains representing, at minimum, one individual were recovered from site 3CN4 in Conway County, AR. No known individual was identified. No associated funerary objects were present. Diagnostic artifacts found at site 3CN4 indicate that these human remains were probably buried sometime during the Prehistoric Period (11,650 B.C.-A.D. 1541).

At an unknown date, human remains representing, at minimum, one individual were recovered from site 3CG21 in Craighead County, AR, and were transferred from the University of Memphis to the Arkansas Archeological Survey in 2013. No known individual was identified. No associated funerary objects were present. Diagnostic artifacts found at site 3CG21 indicate that these human remains were probably buried sometime during the Prehistoric Period (11,650 B.C.-A.D. 1541).

In 2008, human remains representing, at minimum, three individuals were recovered during a salvage excavation from the Krebs site (3CG453) in Craighead County, AR. No known individuals were identified. No associated funerary objects were present. Diagnostic artifacts found at the Krebs site (3CG453) indicate that these human remains were probably buried sometime during the Prehistoric Period (11,650 B.C.-A.D. 1541).

In 1991, human remains representing, at minimum, four individuals were recovered from the Mound Place site (3CT1) in Crittenden County, AR, and were transferred from the University of Memphis to the Arkansas Archeological Survey in 2013 and 2016. No known individuals were identified. No associated funerary objects were present. Diagnostic artifacts found at the Mound Place site (3CT1) indicate that these human remains were probably buried during the Mississippi Period (A.D. 950-1541).

In 1991, human remains representing, at minimum, four individuals were recovered from site 3CT6 in Crittenden County, AR, and were transferred from the University of Memphis to the Arkansas Archeological Survey in 2013 and 2016. No known individuals were identified. No associated funerary objects were present. Diagnostic artifacts found at site 3CT6 indicate that these human remains were probably buried during the Mississippi Period (A.D. 950-1541).

In 1985, human remains representing, at minimum, six individuals were recovered from site 3CT6'E' in Crittenden County, AR, and were transferred from the University of Memphis to the Arkansas Archeological Survey in 2013 and 2016. No known individuals were identified. No associated funerary objects were present. Diagnostic artifacts found at site 3CT6'E' indicate that these human remains were probably buried during the Mississippi Period (A.D. 950-1541).

At an unknown date, human remains representing, at minimum, two individuals were recovered from site 3CT7 in Crittenden County, AR, and were transferred from the University of Memphis to the Arkansas Archeological Survey in 2013. No known individuals were identified. No associated funerary objects were present. Diagnostic artifacts found at site 3CT7 indicate that these human remains were probably buried during the Mississippi Period (A.D. 950-1541).

In 1980 and 1983, human remains representing, at minimum, seven individuals were recovered from the Beck site (3CT8) in Crittenden County, AR, and were transferred from the University of Memphis to the Arkansas Archeological Survey in 2013 and 2016. No known individuals were identified. The six associated funerary objects include one Mississippi Plain jar, one Bell Plain bowl, one Mississippi Plain bowl, two Bell Plain bottles, and one celt. Diagnostic artifacts found at the Beck site (3CT8) indicate that these human remains were probably buried during the Mississippi Period (A.D. 950-1541).

At an unknown date, human remains representing, at minimum, one individual were recovered from site 3CT9 in Crittenden County, AR, and were transferred from the University of Memphis to the Arkansas Archeological Survey in 2013. No known individual was identified. No associated funerary objects were present. Diagnostic artifacts found at site 3CT9 indicate that these human remains were probably buried during the Mississippi Period (A.D. 950-1541).

At an unknown date, human remains representing, at minimum, one individual were recovered from site 3CT10 in Crittenden County, AR, and were transferred from the University of Memphis to the Arkansas Archeological Survey in 2013 and 2016. No known individual was identified. No associated funerary objects were present. Diagnostic artifacts found at site 3CT10 indicate that these human remains were probably buried during the Mississippi Period (A.D. 950-1541).

At an unknown date, human remains representing, at minimum, ten individuals were recovered from site 3CT13 in Crittenden County, AR, and were transferred from the University of Memphis to the Arkansas Archeological Survey in 2013 and 2016. No known individuals were identified. The three associated funerary objects include two Bell Plain bottles and one Bell Plain lobed jar. Diagnostic artifacts found at site 3CT13 indicate that these human remains were probably buried during the Mississippi Period (A.D. 950-1541).

At an unknown date, human remains representing, at minimum, ten individuals were recovered from the Belle Meade site (3CT30) in Crittenden County, AR, and were transferred from the University of Memphis to the Arkansas Archeological Survey in 2013 and 2016. No known individual was identified. The four associated funerary objects include two large Mississippi Plain bowls, one reconstructed Mississippi Plain jar, and one Bell Plain bowl (2016-551). Diagnostic artifacts found at the Belle Meade site (3CT30) indicate that these human remains were probably buried during the Mississippi Period (A.D. 950-1541).

At an unknown date, human remains representing, at minimum, two individuals were recovered from the Edmondson site (3CT33) in Crittenden County, AR, and were transferred from the University of Memphis to the Arkansas Archeological Survey in 2013 and 2016. No known individuals were identified. No associated funerary objects were present. Diagnostic artifacts found at the Edmonson site (3CT33) indicate that these human remains were probably buried during the Mississippi Period (A.D. 950-1541).

At an unknown date, human remains representing, at minimum, one individual were recovered from site 3CS'A' in Cross County, AR, and were transferred from the University of Memphis to the Arkansas Archeological Survey in 2013. No known individual was identified. No associated funerary objects were present. Diagnostic artifacts found in Cross County indicate that these human remains were probably buried sometime during the Prehistoric Period (11,650 B.C.-A.D. 1541).

At an unknown date, human remains representing, at minimum, two individuals were recovered from the Rose Mound site (3CS27) in Cross County, AR, and were transferred from the University of Memphis to the Arkansas Archeological Survey in 2016. No known individuals were identified. No associated funerary objects were present. Diagnostic artifacts found at the Rose Mound site (3CS27) indicate that these human remains were probably buried during the Parkin Phase (A.D. 1350-1550).

At an unknown date, human remains representing, at minimum, one individual were recovered from the Parkin site (3CS29) in Cross County, AR, and were transferred from the University of Memphis to the Arkansas Archeological Survey in 2013. No known individual was identified. No associated funerary objects were present. Diagnostic artifacts found at the Parkin site (3CS29) indicate that these human remains were probably buried during the Parkin Phase (A.D. 1350-1550).

At an unknown date, human remains representing, at minimum, one individual were recovered from site 3CS64 in Cross County, AR, and were transferred from the University of Memphis to the Arkansas Archeological Survey in 2013. No known individual was identified. No associated funerary objects were present. Diagnostic artifacts found at site 3CS64 indicate that these human remains were probably buried during the Mississippi Period (A.D. 950-1541).

In 2009, human remains representing, at minimum, five individuals were recovered from the Harter Knoll site (3IN54) in Independence County, AR. No known individuals were identified. No associated funerary objects were present. Diagnostic artifacts found at the Harter Knoll site (3IN54) indicate that these human remains were probably buried during the Mississippi Period (A.D. 950-1541).

In 2016, human remains representing, at minimum, one individual were recovered from site 3IZ319 in Izard County, AR. These human remains were determined to be of Native American descent by the State Medical Examiner, and were transferred to the Arkansas Archeological Survey. No known individual was identified. No associated funerary objects were present. Diagnostic artifacts found in Izard County indicate that these human remains were probably buried sometime during the Prehistoric Period (11,650 B.C.-A.D. 1541).

At an unknown date, human remains representing, at minimum, two individuals were recovered from an unknown location in Lawrence County, AR, and were donated to the Arkansas Archeological Survey in 2016. No known individuals were identified. No associated funerary objects were present. Diagnostic artifacts found in Lawrence County indicate that these human remains were probably buried sometime during the Prehistoric Period (11,650 B.C.-A.D. 1541).

At an unknown date, human remains representing, at minimum, one individual were recovered from site 3LW461 in Lawrence County, AR, and were donated to the Arkansas Archeological Survey in 2016. No known individual was identified. No associated funerary objects were present. Diagnostic artifacts found at site 3LW461 indicate that these human remains were probably buried sometime during the Prehistoric Period (11,650 B.C.-A.D. 1541).

At an unknown date, human remains representing, at minimum, one individual were recovered from site 3LE7 in Lee County, AR, and were transferred from the University of Memphis to the Arkansas Archeological Survey in 2013. No known individual was identified. No associated funerary objects were present. Diagnostic artifacts found at site 3LE7 indicate that these human remains were probably buried during the Mississippi Period (A.D. 950-1541).

At an unknown date, human remains representing, at minimum, five individuals were recovered from the Clay Hill site (3LE11) in Lee County, AR, and were transferred from the University of Memphis to the Arkansas Archeological Survey in 2013 and 2016. No known individuals were identified. No associated funerary objects were present. Diagnostic artifacts found at the Clay Hill site (3LE11) indicate that these human remains were probably buried during the Mississippi Period (A.D. 950-1541).

At an unknown date, human remains representing, at minimum, three individuals were recovered from the Starkley site (3LE17) in Lee County, AR, and were transferred from the University of Memphis to the Arkansas Archeological Survey in 2013 and 2016. No known individuals were identified. No associated funerary objects were present. Diagnostic artifacts found at the Starkley site (3LE17) indicate that these human remains were probably buried during the Mississippi Period (A.D. 950-1541).

At an unknown date, human remains representing, at minimum, one individual were recovered from site 3LE19 in Lee County, AR, and were transferred from the University of Memphis to the Arkansas Archeological Survey in 2013. No known individual was identified. No associated funerary objects were present. Diagnostic artifacts found at site 3LE19 indicate that these human remains were probably buried during the Mississippi Period (A.D. 950-1541).

At an unknown date, human remains representing, at minimum, one individual were recovered from site 3MS'C' in Mississippi County, AR, and were transferred from the University of Memphis to the Arkansas Archeological Survey in 2013. No known individual was identified. No associated funerary objects were present. Diagnostic artifacts found in Mississippi County indicate that these human remains were probably buried sometime during the Prehistoric Period (11,650 B.C.-A.D. 1541).

In 1998, human remains representing, at minimum, one individual were recovered from site 3MS5 in Mississippi County, AR. No known individual was identified. No associated funerary objects were present. Diagnostic artifacts found at site 3MS5 indicate that these human remains were probably buried sometime during the Prehistoric Period (11,650 B.C.-A.D. 1541).

At an unknown date, human remains representing, at minimum, one individual were recovered from site 3MS16 in Mississippi County, AR, and were transferred from the University of Memphis to the Arkansas Archeological Survey in 2013. No known individual was identified. No associated funerary objects were present. Diagnostic artifacts found at site 3MS16 indicate that these human remains were probably buried during the Mississippi Period (A.D. 950-1541).

In 2016, human remains representing, at minimum, one individual were recovered from site 3MS45 in Mississippi County, AR. No known individual was identified. No associated funerary objects were present. Diagnostic artifacts found at site 3MS45 indicate that these human remains were probably buried sometime during the Prehistoric Period (11,650 B.C.-A.D. 1541).

At an unknown date, human remains representing, at minimum, five individuals were recovered from the Knappenberger site (3MS53) in Mississippi County, AR, and were donated to the Arkansas Archeological Survey in 1998. No known individuals were identified. No associated funerary objects were present. Diagnostic artifacts found at the Knappenberger site (3MS53) indicate that these human remains were probably buried sometime during the Prehistoric Period (11,650 B.C.-A.D. 1541).

At an unknown date, human remains representing, at minimum, one individual were recovered from site 3MS62 in Mississippi County, AR, and were transferred from the University of Memphis to the Arkansas Archeological Survey in 2013. No known individual was identified. No associated funerary objects were present. Diagnostic artifacts found at site 3MS62 indicate that these human remains were probably buried during the Mississippi Period (A.D. 950-1541).

In 2016, human remains representing one individual were recovered from Perry County, AR. These human remains were determined to be of Native American descent by the State Medical Examiner, and were transferred to the Arkansas Archeological Survey. No known individual was identified. No associated funerary objects were present. Diagnostic artifacts found in Perry County indicate that these human remains were probably buried sometime during the Prehistoric Period (11,650 B.C.-A.D. 1541).

At an unknown date, human remains representing, at minimum, one individual were recovered from site 3SF3 in St. Francis County, AR, and were transferred from the University of Memphis to the Arkansas Archeological Survey in 2013. No known individual was identified. No associated funerary objects were present. Diagnostic artifacts found at site 3SF3 indicate that these human remains were probably buried sometime during the Prehistoric Period (11,650 B.C.-A.D. 1541).

At an unknown date, human remains representing, at minimum, one individual were recovered from site 3SF4 in St. Francis County, AR, and were transferred from the University of Memphis to the Arkansas Archeological Survey in 2013. No known individual was identified. No associated funerary objects were present. Diagnostic artifacts found at site 3SF4 indicate that these human remains were probably buried during the Mississippi Period (A.D. 950-1541).

At an unknown date, human remains representing, at minimum, one individual were recovered from site 3SF9 in St. Francis County, AR, and were transferred from the University of Memphis to the Arkansas Archeological Survey in 2016. No known individual was identified. No associated funerary objects were present. Diagnostic artifacts found at site 3SF9 indicate that these human remains were probably buried sometime during the Prehistoric Period (11,650 B.C.-A.D. 1541).

At an unknown date, human remains representing, at minimum, one individual were recovered from site 3SF25 in St. Francis County, AR, and were transferred from the University of Memphis to the Arkansas Archeological Survey in 2016. No known individual was identified. No associated funerary objects were present. Diagnostic artifacts found at site 3SF25 indicate that these human remains were probably buried sometime during the Prehistoric Period (11,650 B.C.-A.D. 1541).

At an unknown date, human remains representing, at minimum, one individual were recovered from the Sycamore Landing area in St. Francis County, AR, and were transferred from the University of Memphis to the Arkansas Archeological Survey in 2016. No known individual was identified. No associated funerary objects were present. Diagnostic artifacts found in St. Francis County indicate that these human remains were probably buried sometime during the Prehistoric Period (11,650 B.C.-A.D. 1541).

At an unknown date, human remains representing, at minimum, one individual were recovered from the Sycamore Bend Plantation area in St. Francis County, AR, and were transferred from the University of Memphis to the Arkansas Archeological Survey in 2013 and 2016. No known individual was identified. No associated funerary objects were present. Diagnostic artifacts found in St. Francis County indicate that these human remains were probably buried sometime during the Prehistoric Period (11,650 B.C.-A.D. 1541).

At an unknown date, human remains representing, at minimum, three individuals were recovered from an unknown area in Northeast Arkansas by the Memphis Archaeological and Geological Society. These human remains were transferred from the University of Memphis to the Arkansas Archeological Survey in 2013. No known individuals were identified. No associated funerary objects were present. Diagnostic artifacts found in Northeast Arkansas indicate that these human remains were probably buried sometime during the Prehistoric Period (11,650 B.C.-A.D. 1541).

At an unknown date, human remains representing, at minimum, three individuals were recovered from an unknown area in the State of Arkansas, and were donated to the Arkansas Archeological Survey in 2017. No known individuals were identified. No associated funerary objects were present. Diagnostic artifacts found in Arkansas indicate that these human remains were probably buried sometime during the Prehistoric Period (11,650 B.C.-A.D. 1541).

Quapaw communities occupied villages located around the confluence of the Arkansas and Mississippi Rivers at the time of late 17th century French exploration. The earliest collections listed on the NIC appear to be from Archaic contexts. Already during the Mississippi period (A.D. 950-1541), though, distinctive local groups emerge in the archeological record that correspond in geographical extent and cultural cohesiveness to present-day groups that include the Quapaw.

This notice includes a variety of terms commonly used in discussions of Arkansas archeology and the historical trajectories that gave rise to specific Native American communities identified in the historical record. Based on the archeological context for these sites and what is presently known about the peoples who pre-date the historic Quapaw people and occupied the sites listed in this notice, the Arkansas Archeological Survey has determined the human remains listed in this notice are culturally affiliated with The Quapaw Tribe of Indians.

Determinations Made by the Arkansas Archeological Survey

Officials of the Arkansas Archeological Survey have determined that:

• Pursuant to 25 U.S.C. 3001(9), the human remains described in this notice represent the physical remains of 104 individuals of Native American ancestry.

• Pursuant to 25 U.S.C. 3001(3)(A), the 13 objects described in this notice are reasonably believed to have been placed with or near individual human remains at the time of death or later as part of the death rite or ceremony.

• Pursuant to 25 U.S.C. 3001(2), there is a relationship of shared group identity that can be reasonably traced between the Native American human remains and The Quapaw Tribe of Indians.

Additional Requestors and Disposition

Lineal descendants or representatives of any Indian Tribe or Native Hawaiian organization not identified in this notice that wish to request transfer of control of these human remains should submit a written request with information in support of the request to Dr. George Sabo, Director, Arkansas Archeological Survey, 2475 North Hatch Avenue, Fayetteville, AR 72704, (479) 575-3556, gsabo@uark.edu, by March 1, 2018. After that date, if no additional requestors have come forward, transfer of control of the human remains to The Quapaw Tribe of Indians may proceed.

The Arkansas Archeological Survey is responsible for notifying The Quapaw Tribe of Indians that this notice has been published.

Dated: October 11, 2017.
Melanie O'Brien,
Manager, National NAGPRA Program.

Editorial Note: This document was received at the Office of The Federal Register on January 25, 2018.

[FR Doc. 2018-01717 Filed 1-29-18; 8:45 am]

BILLING CODE 4312-52-P